POSTAL SERVICE

Privacy Act of 1974; System of Records

AGENCY: Postal Service®.

ACTION: Notice of modified system of records.

SUMMARY: The United States Postal Service® (USPS) is proposing to modify one General Privacy Act System of Records (SOR) to support compliance of the Fair Chance to Compete for Jobs Act of 2019 (Fair Chance Act) which prohibits the Postal Service from inquiring into the criminal history of applicants before a conditional offer of employment has been made.

DATES: These revisions will become effective without further notice on February 21, 2024, unless responses to comments received on or before that date result in a contrary determination.

ADDRESSES: Comments may be submitted via email to the Privacy and Records Management Office, United States Postal Service Headquarters (USPSPrivacyFedRegNotice@usps.gov). To facilitate public inspection, arrangements to view copies of any written comments received will be made upon request.

FOR FURTHER INFORMATION CONTACT: Janine Castorina, Chief Privacy and Records Management Officer, Privacy and Records Management Office, via email at USPSPrivacyFedRegNotice@usps.gov or 202-268-2000.

SUPPLEMENTARY INFORMATION: This notice is in accordance with the Privacy Act requirement that agencies publish their systems of records in the Federal Register when there is a revision, change, or addition, or when the agency establishes a new system of records. The Postal Service has determined that General Privacy Act System of Records, USPS SOR 100.900 Employee Inquiry, Complaint, and Investigative Records, should be revised to promote transparency and support ongoing administrative and compliance activities to meet the Fair Chance Act requirements.

I. Background

The Postal Service must ensure that it is complying with Fair Chance to Compete for Jobs Act of 2019. The Fair Chance Act prohibits the Postal Service from inquiring into the criminal history of applicants before a conditional offer of employment has been made. An applicant who feels their rights under this law have been violated has 30 days from the date of violation to make a complaint to the Postal Service. The Postal Service will conduct a fact-finding investigation within 60 days of a complaint and submit all documents and findings to OPM.

II. Rationale for Changes to USPS Privacy Act Systems of Records

The Postal Service is committed to compliance with the Fair Chance Act. The proposed Privacy Act System of Records updates reflects this commitment to being transparent with the collection and usage of an individual's information as a required result of a formal filing of complaint against the Postal Service if the individual believes the Postal Service inquired into the criminal history of an applicant before a conditional offer of employment has been made.

III. Description of the Modified System of Records

The Postal Service is proposing modifications to USPS SOR 100.900 Employee Inquiry, Complaint, and Investigative Records, in the summary of changes listed below:

• Updated SYSTEM MANAGERS to reflect the current Human Resource title.

• Added one CATEGORIES OF INDIVIDUALS COVERED BY THE SYSTEM as bullet point #2 to include individuals specifically covered by the Fair Chance Act.

• Updated all three CATEGORIES OF RECORDS IN THE SYSTEM to include specific individual data elements and the full process of investigation to include decision and resolution of complaint.

• Updated administrative information in NOTIFICATION PROCEDURES to include individuals specifically covered by the Fair Chance Act.

Pursuant to 5 U.S.C. 552a(e)(11), interested persons are invited to submit written data, views, or arguments on this proposal. A report of the proposed revisions has been sent to Congress and to the Office of Management and Budget (OMB) for their evaluations. The Postal Service does not expect this amended system of records to have any adverse effect on individual privacy rights. USPS SOR 100.900 Employee Inquiry, Complaint, and Investigative Records is provided below in its entirety:

SYSTEM NAME AND NUMBER:

USPS 100.900 Employee Inquiry, Complaint, and Investigative Records.

SECURITY CLASSIFICATION:

None.

SYSTEM LOCATION:

USPS personnel offices; area and district facilities; Post Offices; and contractor sites.

SYSTEM MANAGER(S):

Vice President, Human Resources, United States Postal Service, 475 L'Enfant Plaza SW, Washington, DC 20260.

Vice President, Labor Relations, United States Postal Service, 475 L'Enfant Plaza SW, Washington, DC 20260.

AUTHORITY FOR MAINTENANCE OF THE SYSTEM:

39 U.S.C. 401, 410, 1001, 1005, and 1206.

PURPOSE(S) OF THE SYSTEM:

1. To enable review and response to inquiries and complaints concerning employees and non-employees.

2. To enable management to initiate, review, process, track, and resolve inquiries, complaints, or concerns about the workplace.

3. To support administrative or court litigation and arbitration proceedings.

CATEGORIES OF INDIVIDUALS COVERED BY THE SYSTEM:

1. USPS employees and non-employees who contact USPS with an inquiry or complaint, and employees and non-employees who are subjects of management inquiries or investigations of workplace issues.

2. Individuals that file or are the subject of a complaint under the Fair Chance to Compete for Jobs Act of 2019 (Fair Chance Act) and related regulations.

CATEGORIES OF RECORDS IN THE SYSTEM:

1. Employee information: Name, gender, Social Security number, Employee Identification Number, postal assignment information, veteran status, contact information (work and/or home email, address, phone number), finance number(s), duty location, and pay location.

2. Non-employee information: Name, gender, Applicant Identification Number, and contact information (work and/or home email, address, and phone number).

3. Identification number, and contact information, inquiry, complaint, and investigative information: Records related to the subject category of inquiry or complaint, assigned case number, background, and description of inquiry, complaint, investigation, decision, and resolution.

RECORD SOURCE CATEGORIES:

Employees, non-employees, supervisors, managers, and witnesses.

ROUTINE USES OF RECORDS MAINTAINED IN THE SYSTEM, INCLUDING CATEGORIES OF USERS AND PURPOSES OF SUCH USES:

Standard routine uses 1. through 9. apply. In addition:

a. Records may be disclosed to the National Labor Relations Board (NLRB) in response to its request for investigative purposes, to the extent that the requested information is relevant and necessary.

POLICIES AND PRACTICES FOR STORAGE OF RECORDS:

Automated database, computer storage media, and paper.

POLICES AND PRACTICES FOR RETRIEVAL OF RECORDS:

By employee and non-employee name, Employee Identification Number, Applicant Identification Number, subject category, facility, finance number, district, area, nationally, or case number.

POLICIES AND PRACTICES FOR RETENTION AND DISPOSTAL OF RECORDS:

Records are retained 4 years after response to inquiry, resolution of complaint, or conclusion of investigation.

Records existing on paper are destroyed by burning, pulping, or shredding. Records existing on computer storage media are destroyed according to the applicable USPS media sanitization practice.

ADMINISTRATIVE, TECHNICAL, AND PHYSICAL SAFEGUARDS:

Paper records, computers, and computer storage media are located in controlled-access areas under supervision of program personnel. Access to these areas is limited to authorized personnel, who must be identified with a badge.

Access to records is limited to individuals whose official duties require such access. Contractors and licensees are subject to contract controls and unannounced on-site audits and inspections. Computers are protected by mechanical locks, card key systems, or other physical access control methods.

The use of computer systems is regulated with installed security software, computer logon identifications, and operating system controls including access controls, terminal and transaction logging, and file management software.

RECORD ACCESS PROCEDURES:

Requests for access must be made in accordance with the Notification Procedure above and USPS Privacy Act regulations regarding access to records and verification of identity under 39 CFR 266.5.

CONTESTING RECORDS PROCEDURES

See Notification Procedures (below) and Record Access Procedures (above).

NOTIFICATION PROCEDURES

Employees who want to know if their information is maintained in this system of records must address inquiries to the facility head where currently or last employed.

Headquarters employees must submit inquiries to Corporate Personnel Management, 475 L'Enfant Plaza SW, Washington, DC 20260.

Individuals who file complaints under the Fair Chance Act must submit complaints to National Human Resources at FairChanceActSupport@usps.gov.

Non-employees who want to know if their information is maintained in this system of records must address inquiries to the District Manager, Human Resources that governs the facility where the inquiry, complaint, or investigative records are stored. Inquiries must include full name, address, and other identifying information. In addition, employees must include Social Security number or Employee Identification Number, name and address of facility where last employed, and dates of USPS employment. Likewise, employees may also be required to furnish where the inquiry, complaint, or investigation occurred.

EXEMPTIONS PROMULGATED FOR THE SYSTEM

Records in this system that have been compiled in reasonable anticipation of a civil action or proceeding are exempt from individual access as permitted by 5 U.S.C. 552a(d)(5). The USPS has also claimed exemption from certain provisions of the Act for several of its other systems of records at 39 CFR 266.9. To the extent that copies of exempted records from those other systems are incorporated into this system, the exemptions applicable to the original primary system continue to apply to the incorporated records.

HISTORY

January 26, 2018, 83 FR 3777.

Sarah Sullivan,
Attorney, Ethics & Legal Compliance.

[FR Doc. 2024-00958 Filed 1-19-24; 8:45 am]

BILLING CODE 7710-12-P